DEPARTMENT OF HEALTH AND HUMAN SERVICES

National Institutes of Health

National Heart, Lung, and Blood Institute Amended Notice of Meeting

Notice is hereby given of a change in the meeting of the National Heart, Lung, and Blood Institute Special Emphasis Panel, March 19, 2020, 8:00 a.m. to March 20, 2020, 4:30 p.m., Bethesda North Marriott Hotel and Conference Center Facility, 5701 Marinelli Road, North Bethesda, MD 20852 which was published in the Federal Register on February 18, 2020, 85 FR 8881.

The NHLBI Special Emphasis Panel meeting is being amended due to a change in the meeting format. This one-day meeting to be held on March 19, 2020 will be a teleconference meeting. The meeting is closed to the public.

Dated: March 11, 2020.
Ronald J. Livingston, Jr.,
Program Analyst, Office of Federal Advisory Committee Policy.

[FR Doc. 2020-05431 Filed 3-16-20; 8:45 am]

BILLING CODE 4140-01-P